DEPARTMENT OF THE INTERIOR

Fish and Wildlife Service

[FWS-R9-MB-2008-N0307; 91400-5110-0000-7B; 91400-9410-0000-7B]

Multistate Conservation Grant Program; Priority List for Conservation Projects

AGENCY: Fish and Wildlife Service, Department of the Interior.

ACTION: Notice of receipt of priority list.

SUMMARY: We, the U.S. Fish and Wildlife Service (FWS), announce the FY 2009 priority list of wildlife and sport fish conservation projects from the Association of Fish and Wildlife Agencies (AFWA). As required by the Wildlife and Sport Fish Restoration Programs Improvement Act of 2000, AFWA submits a list of projects to us each year to consider for funding under the Multistate Conservation Grant program. We then review and award grants from this list.

ADDRESSES: John C. Stremple, Multistate Conservation Grants Program Coordinator, Division of Federal Assistance, U.S. Fish and Wildlife Service, 4401 North Fairfax Drive, Mail Stop MBSP-4020, Arlington, Virginia 22203.

FOR FURTHER INFORMATION CONTACT: John C. Stremple, (703) 358-2156 (phone) or John_Stremple@fws.gov (e-mail).

SUPPLEMENTARY INFORMATION: The Wildlife and Sport Fish Restoration Programs Improvement Act of 2000 (Improvement Act, Pub. L. 106-408) amended the Pittman-Robertson Wildlife Restoration Act (16 U.S.C. 669 et seq.) and the Dingell-Johnson Sport Fish Restoration Act (16 U.S.C. 777 et seq.) and established the Multistate Conservation Grant Program. The Improvement Act authorizes us to award grants of up to $3 million annually from funds available under each of the Restoration Acts, for a total of up to $6 million annually. We may award grants from a list of priority projects recommended to us by AFWA. The FWS Director, exercising the authority of the Secretary of the Interior, need not fund all projects on the list, but all projects funded must be on the list.

Grantees under this program may use funds for sport fisheries and wildlife management and research projects, boating access development, hunter safety and education, aquatic education, fish and wildlife habitat improvements, and other purposes consistent with the enabling legislation.

To be eligible for funding, a project must benefit fish and/or wildlife conservation in at least 26 States, or in a majority of the States in any one FWS Region, or it must benefit a regional association of State fish and wildlife agencies. We may award grants to a State, a group of States, or one or more nongovernmental organizations. For the purpose of carrying out the National Survey of Fishing, Hunting and Wildlife-Associated Recreation, we may award grants to the FWS, if requested by AFWA, or to a State or a group of States. Also, AFWA requires all project proposals to address its National Conservation Needs, which are announced annually by AFWA at the same time as its request for proposals. Further, applicants must provide certification that no activities conducted under a Multistate Conservation grant will promote or encourage opposition to regulated hunting or trapping of wildlife or to regulated angling or taking of fish.

Eligible project proposals are reviewed and ranked by AFWA Committees and interested nongovernmental organizations that represent conservation organizations, sportsmen's organizations, and industries that support or promote fishing, hunting, trapping, recreational shooting, bowhunting, or archery. AFWA's Committee on National Grants recommends a final list of priority projects to the directors of State fish and wildlife agencies for their approval by majority vote. By statute, AFWA then must transmit the final approved list to the FWS for funding under the Multistate Conservation Grant program by October 1.

This year, we received a list of fourteen recommended projects. We recommend them for funding in 2009, contingent on the Multistate Conservation Grant Program receiving additional funds as specified in the Safe, Accountable, Flexible, and Efficient Transportation Equity Act of 2005 (Pub. L. 109-059) passed in August 2005. AFWA's recommended list follows.

MSCGP 2009 Cycle Recommended Projects
ID | Title | Submitter | WR request | SFR request | Total 2009 grant request
09001 | Multistate Conservation Grant Program (MSCGP) Coordination | AFWA | $190,560.00 | $190,560.00 | $381,120.00
09003 | Community Archery Programs as Recruitment and Retention Tools | ATA | 114,000.00 | 0.00 | 114,000.00
09004 | Coordination of the Industry, Federal, and State Agency Coalition | AFWA | 94,800.00 | 94,800.00 | 189,600.00
09005 | Return on Investment: An Analysis of Sport Fish Restoration and Wildlife Restoration Programs | AFWA | 192,397.20 | 94,762.80 | 287,160.00
09006 | Research Component for the 2011 National Survey | USFWS | 1,029,522.00 | 1,029,522.00 | 2,059,044.00
09007 | Coordination Component for 2011 National Survey of Fishing, Hunting and Wildlife-Associated Recreation (FHWAR) | USFWS | 170,378.00 | 170,378.00 | 340,756.00
09008 | Trailblazer Adventure Program: Involving Youth and Families in Conservation | USSAF | 160,000.00 | 160,000.00 | 320,000.00
09009 | Western Native Trout Initiative (WNTI) Implementation | WAFWA | 0.00 | 360,000.00 | 360,000.00
09012 | National CP33 Monitoring Program Phase II: Evaluating Mid-Contract Management to Increase Wildlife Benefits | MSU | 779,730.00 | 0.00 | 779,730.00
09013 | Improving Conservation Education and Connecting Families to Nature Through Programs Targeting the Wildlife Values of the Public | WAFWA | 143,073.50 | 143,073.50 | 286,147.00
09015 | Eastern Brook Trout Joint Venture—Fish Habitat Partnership: Sustainable Infrastructure Development and Support | VA Tech | 0.00 | 170,000.00 | 170,000.00
09016 | Effectiveness of Hunting, Fishing, and Shooting Recruitment and Retention Programs | NWTF | 160,993.61 | 160,993.61 | 321,987.21
09017 | Implementation of the Southeast Aquatic Habitat Plan and the National Fish Habitat Action Plan in the southeastern U.S | SARP | 0.00 | 468,000.00 | 468,000.00
09018 | Coordination, implementation and maximization of the Association's Conservation Education Strategy | AFWA | 297,000.00 | 297,000.00 | 594,000.00
|  |  | 3,332,454.31 | 3,339,089.91 | 6,671,544.21

Dated: October 28, 2008.
Kenneth Stansell,
Assistant Director, U.S. Fish and Wildlife Service.

[FR Doc. E8-28830 Filed 12-8-08; 8:45 am]

BILLING CODE 4310-55-P